DEPARTMENT OF THE INTERIOR

Office of Surface Mining Reclamation and Enforcement

30 CFR Part 946

[SATS No. VA-127-FOR; Docket ID: OSM-2015-0003; S1D1S SS08011000 SX064A000 67F 167S180110; S2D2S SS08011000 SX064A000 33F 16XS501520]

Virginia Regulatory Program

AGENCY: Office of Surface Mining Reclamation and Enforcement, Interior.

ACTION: Proposed rule; reopening of the public comment period.

SUMMARY: We are reopening the public comment period on the proposed amendment to the Virginia regulatory program (the Virginia program) published on October 22, 2015. The comment period is being reopened in order to afford the public more time to comment. Virginia is proposing to revise its regulations in light of legislative changes made by the General Assembly of Virginia. If approved, the proposed amendment would incorporate these legislative changes into the approved State program. Additionally, the state regulations would be amended to revise the language of the public participation regulations to clarify proof of publication, remove the self-bonding instrument, and remove duplicate pool bond regulations already addressed under the Code of Virginia.

DATES: We will accept written comments on this amendment until 4:00 p.m., Eastern Standard Time (E.S.T.), March 9, 2016.

ADDRESSES: You may submit comments, identified by SATS No. VA-127-FOR, Docket ID: OSM-2015-003 by any of the following methods:

• Mail/Hand Delivery: Mr. Earl Bandy, Field Office Director, Knoxville Field Office, Office of Surface Mining Reclamation and Enforcement, 710 Locust Street, 2nd Floor, Knoxville, Tennessee 37902.

• Federal eRulemaking Portal: http://www.regulations.gov. Follow the instructions for submitting comments.

Instructions: All submissions received must include the agency name and docket number for this rulemaking. For detailed instructions on submitting comments and additional information on the rulemaking process, see the “Public Comment Procedures” heading of the SUPPLEMENTARY INFORMATION section of the proposed rule published in the Federal Register on October 22, 2015, (80 FR 63933).

Docket: For access to the docket to review copies of the Virginia program, this amendment, a listing of any scheduled public hearings, and all written comments received in response to this document, you must go to the address listed below during normal business hours, Monday through Friday, excluding holidays. You may receive one free copy of the amendment by contacting OSMRE's Knoxville Field Office or the full text of the program amendment is available for you to read at www.regulations.gov.

Mr. Earl Bandy, Field Office Director, Knoxville Field Office, Office of Surface Mining Reclamation and Enforcement, 710 Locust Street, 2nd Floor, Knoxville, Tennessee 37902. Telephone: (865) 545-4103 ext 186. Email: ebandy@osmre.gov.

In addition, you may review a copy of the amendment during regular business hours at the following location: Mr. Harve A. Mooney, Legal Services Officer, Virginia Department of Mines, Minerals and Energy, 3405 Mountain Empire Road, Big Stone Gap, Virginia 24219. Telephone: (276) 523-8271. Email: harve.mooney@dmme.virginia.gov.

FOR FURTHER INFORMATION CONTACT: Mr. Earl Bandy, Field Office Director, Knoxville Field Office. Telephone: (865) 545-4103 ext 186. Email: ebandy@osmre.gov.

SUPPLEMENTARY INFORMATION: On October 22, 2015, we published a proposed rule in the Federal Register that would revise the Virginia program (80 FR 63933) (Administrative Record No. VA 2026). The amendment involves statutory provisions of the Virginia Coal Surface Mining Control and Reclamation Act of 1979 (VASMCRA) and regulation changes that revise the language of the public participation regulations to clarify proof of publication, remove the self-bonding instrument, and remove duplicate pool bond regulations already addressed under the Code of Virginia.

On November 18, 2015, we received a request from an attorney representing Southern Appalachian Mountain Stewards and the Sierra Club to extend the public comment period (Administrative Record No. VA 2027). We are granting the request to afford the public more time to comment on the amendment.

The full text of the program amendment is available for you to read at the locations listed above under ADDRESSES or at www.regulations.gov.

Dated: December 9, 2015.
Thomas D. Shope,
Regional Director, Appalachian Region.

[FR Doc. 2016-02460 Filed 2-5-16; 8:45 am]

BILLING CODE 4310-05-P